DEPARTMENT OF COMMERCE

International Trade Administration

[A-489-833]

Large Diameter Welded Pipe From the Republic of Turkey: Rescission of 2018-2020 Antidumping Duty Administrative Review

AGENCY: Enforcement and Compliance, International Trade Administration, Department of Commerce.

SUMMARY: The U.S. Department of Commerce (Commerce) is rescinding its administrative review of the antidumping duty (AD) order on large diameter welded carbon and alloy steel line and structural pipe (welded line pipe and welded structural pipe) from the Republic of Turkey (Turkey) for the period of review (POR) August 27, 2018, through April 30, 2020.

DATES: Applicable November 12, 2020.

FOR FURTHER INFORMATION CONTACT: William Miller, AD/CVD Operations, Office II, Enforcement and Compliance, International Trade Administration, U.S. Department of Commerce, 1401 Constitution Avenue NW, Washington, DC 20230; telephone: (202) 482-3906.

SUPPLEMENTARY INFORMATION:

Background

On May 1, 2020, Commerce published in the Federal Register a notice of opportunity to request an administrative review of the AD order on welded line pipe and welded structural pipe from Turkey for the POR.¹ Commerce received a timely request from American Cast Iron Pipe Company, Berg Steel Pipe Corp., Berg Spiral Pipe Corp., Dura-Bond Industries, Stupp Corporation and Welspun Global Trade LLC, individually and as members of the American Line Pipe Producers Association; Greens Bayou Pipe Mill, LP; JS W Steel (USA) Inc.; Skyline Steel; and Trinity Products LLC (collectively, the petitioners), in accordance with section 751(a) of the Tariff Act of 1930, as amended (the Act), and 19 CFR 351.213(b), to conduct an administrative review of this AD order for 16 companies.² Commerce received no other requests for administrative review.

¹ See Antidumping or Countervailing Duty Order, Finding, or Suspended Investigation; Opportunity to Request Administrative Review, 85 FR 25394 (May 1, 2020).

² See Petitioners' Letter, “Large Diameter Welded Pipe from Turkey: Request for Administrative Review,” dated June 1, 2019.

On July 10, 2020, Commerce published in the Federal Register a notice of initiation with respect to these companies.³ On October 7, 2020, the petitioners timely withdrew their request for an administrative review for all 16 companies.⁴

³ See Initiation of Antidumping and Countervailing Duty Administrative Reviews, 85 FR 41540 (July 10, 2020).

⁴ See Petitioners' Letter, “Large Diameter Welded Pipe from the Republic of Turkey: Withdrawal of Request for Administrative Review,” dated October 7, 2020.

Rescission of Administrative Review

Pursuant to 19 CFR 351.213(d)(1), Commerce will rescind an administrative review, in whole or in part, if the party or parties that requested a review withdraws the request within 90 days of the date of publication of the notice of initiation of the requested review. The petitioners withdrew their request for review by the 90-day deadline, and no other party requested an administrative review of this order. Therefore, we are rescinding the administrative review of the AD order on welded line pipe and welded structural pipe from Turkey covering the POR in its entirety.

Assessment

Commerce will instruct U.S. Customs and Border Protection (CBP) to assess antidumping duties on all appropriate entries. Because Commerce is rescinding this administrative review in its entirety, the entries to which this administrative review pertained shall be assessed at rates equal to the cash deposit of estimated antidumping duties required at the time of entry, or withdrawal from warehouse, for consumption, in accordance with 19 CFR 351.212(c)(1)(i). Commerce intends to issue appropriate assessment instructions to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

Notification to Interested Parties

This notice is published in accordance with sections 751(a)(1) and 777(i)(1) of the Act and 19 CFR 351.213(d)(4).

Dated: October 30, 2020.
James Maeder,
Deputy Assistant Secretary for Antidumping and Countervailing Duty Operations.

[FR Doc. 2020-25046 Filed 11-12-20; 8:45 am]

BILLING CODE 3510-DS-P